DEPARTMENT OF THE INTERIOR

Bureau of Land Management

[OROR 016756]

Public Land Order No. 7930; Extension of Public Land Order No. 6476 for Wheeler Creek Natural Area; Oregon

AGENCY: Bureau of Land Management, Interior.

ACTION: Public Land Order.

SUMMARY: This order extends the duration of the withdrawal created by Public Land Order (PLO) No. 6476, as extended by PLO No. 7572, for an additional 20-year period. PLO No. 6476 withdrew 334 acres of National Forest System lands in the Rogue River-Siskiyou National Forest from location and entry under the United States mining laws to protect the Wheeler Creek Research Natural Area (RNA).

DATES: This PLO takes effect on October 5, 2023.

FOR FURTHER INFORMATION CONTACT: Luke Poff, Realty Specialist, Bureau of Land Management Oregon/Washington State Office, P.O. Box 2965, Portland, OR 97208, (503) 808-6249, or by email at lpoff@blm.gov. The United States Forest Service, Rogue River-Siskiyou National Forest Supervisor's Office can be reached at 3040 Biddle Road, Medford, Oregon 97504, (541) 618-2200. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The purpose of the withdrawal extended by this PLO is to maintain the protection of the Wheeler Creek RNA. PLO No. 6476 (48 FR 45395 (1983)), as extended by PLO No. 7572 (68 FR 42127 (2003)), incorporated herein by reference, withdrew 334 acres of National Forest System lands from location and entry under the United States mining laws to protect the Wheeler Creek RNA in Curry County, Oregon, from any adverse impacts of such activities. The withdrawal extension is necessary to continue that protection.

Order

By virtue of the authority vested in the Secretary of the Interior by section 204(f) of the Federal Land Policy and Management Act of 1976, 43 U.S.C. 1714(f), it is ordered as follows:

1. PLO No. 6476, as extended by PLO No. 7572 for an additional 20-year period, which withdrew 334 acres of National Forest System lands from location and entry under the United States mining laws to protect the Wheeler Creek Research Natural Area in support of Forest Service programs, is hereby extended, subject to valid existing rights, for an additional 20-year period.

2. This withdrawal will expire 20 years from the effective date of this order unless, as a result of a review conducted prior to the expiration date pursuant to Section 204(f) of the Federal Land Policy and Management Act, 43 U.S.C. 1714(f), the Secretary determines that the withdrawal shall be further extended.

(Authority: 43 U.S.C. 1714(f))

Robert T. Anderson,
Solicitor.

[FR Doc. 2023-21475 Filed 9-28-23; 8:45 am]

BILLING CODE 3411-15-P